OFFICE OF PERSONNEL MANAGEMENT

5 CFR Part 412

[Docket ID: OPM-2025-0014]

RIN 3206-AO89

Ensuring Consistent and Rigorous Standards for Senior Executive Service Candidate Development Programs

AGENCY: Office of Personnel Management.

ACTION: Notice of proposed rulemaking.

SUMMARY: The Office of Personnel Management (OPM) proposes to revise its Senior Executive Service (SES) Candidate Development Program (SESCDP) regulations to implement certain SES training and development requirements. The SES represents the Federal Government's leadership, composed of executive positions above the GS-15 level. SESCDPs serve as a crucial succession management tool for Federal agencies, designed to identify and prepare high-potential employees for future roles within the SES. These programs aim to cultivate leaders equipped with a government-wide perspective and the competencies necessary to tackle complex challenges.

DATES: Comments must be received on or before February 17, 2026.

ADDRESSES: You may submit comments, identified by RIN number “3206-AO89” and title, using the following method:

• Federal eRulemaking Portal: https://www.regulations.gov. Follow the instructions for submitting comments.

All submissions must include the agency name and docket number or RIN for this Federal Register document. Please arrange and identify your comments about the regulatory text by subpart and section number. If your comments relate to the supplementary information, please reference the heading and page number in the supplementary section. All comments must be received by the end of the comment period for them to be considered. All comments and other submissions received generally will be posted on the internet at https://regulations.gov as they are received, without change, including any personal information provided. However, OPM retains discretion to redact personal or sensitive information, including but not limited to, personal or sensitive information pertaining to third parties.

As required by 5 U.S.C. 553(b)(4), a summary of this rule may be found in the docket for this rulemaking at www.regulations.gov.

FOR FURTHER INFORMATION CONTACT: Nicole Wright, Deputy Associate Director, Executive Services and Workforce Development, 202-606-8046 or by email at SESDevelopment@opm.gov.

SUPPLEMENTARY INFORMATION:

Background

The Senior Executive Service (SES) is a corps of top-level Federal executives who provide leadership and oversee government operations, bridging the gap between political appointees and career civil servants. The SES was established by the Civil Service Reform Act (CSRA) of 1978 and became effective in July 1979. The CSRA envisioned a senior executive corps with solid executive expertise, public service values, and a broad perspective of the Government. The CSRA established the SES as a distinct personnel system that applies the same executive qualifications requirements to all members. The system was designed to provide greater authority to agencies to manage their executive resources, including the flexibility for selecting and developing Federal executives within a framework that preserves the larger corporate interests of the Government.

An SESCDP is a structured program designed to identify and prepare individuals who aspire to become senior executive leaders, exhibit readiness or near-readiness for executive-level responsibilities, demonstrate leadership across organizational boundaries, and show potential to manage complex, cross-agency initiatives. As a strategic succession tool, SESCDPs serve to strengthen selected candidates' leadership skills and characteristics based on current standards. Participation provides governmentwide leadership opportunities to interact with senior employees outside their department and/or agency, interagency training experiences, executive-level development assignments, mentoring, and coaching. Further, an SESCDP boosts participants' executive competencies and expands their understanding of governmentwide programs and issues beyond their individual agency and profession, broadening participants' understanding of missions, programs, core values, and management challenges.

Graduates of an OPM-approved SESCDP, who are selected through civil service-wide competition and are certified by OPM's Qualifications Review Board (QRB), may receive a career SES appointment without further competition. The QRB certifies the executive qualifications of candidates for initial career SES appointments. QRB members judge the overall scope, quality, and depth of a candidate's executive qualifications and experience within the context of the Executive Core Qualifications. QRB certification does not guarantee placement in the SES, and SESCDP participation is not required for selection into the SES.

On October 30, 2004, the President signed the Federal Workforce Flexibility Act of 2004 (Act), Public Law 108-411, into law. The Act made several significant changes in the law governing the training and development of Federal employees, supervisors, managers, and executives. The first change required each agency to evaluate, on a regular basis, its training programs and plans with respect to the accomplishment of its specific performance plans and strategic goals, and to modify its training plans and programs as needed to accomplish the agency's performance plans and strategic goals.

The second major change the Act required was for agencies to consult with OPM to establish comprehensive succession management programs designed to provide training to employees to develop managers for the agency. It also required agencies, in consultation with OPM, to establish programs to provide training to managers regarding actions, options, and strategies a manager may use in relating to employees with unacceptable performance, mentoring employees, improving employee performance and productivity, and conducting employee performance appraisals.

On January 20, 2025, President Trump issued a Presidential Memorandum titled “Restoring Accountability for Career Senior Executives.” 90 FR 8481, January 30, 2025. With this Presidential Memorandum, President Trump directed agencies to “reinvigorate the SES system and prioritize accountability” to ensure proper accountability to both the President and the American people. The Presidential Memorandum further directed the Director of OPM, in coordination with the Director of the Office of Management and Budget, to reassign agency SES members as needed to ensure alignment between their knowledge, skills, abilities, and mission assignments and the President's agenda.

To advance this directive, on May 29, 2025, OPM released the memorandum, Hiring and Talent Development for the Senior Executive Service,¹ which provides policy, guidance, and timelines to agencies on SES hiring and development, to include new SESCDP certification requirements. The memorandum noted that “these changes in hiring, training, development and oversight will drive a cultural shift in the SES.” The memorandum further highlights that Federal agencies are responsible for ensuring appropriate succession planning for executive positions by building a pipeline of qualified candidates that are well-prepared to serve as Federal executives, and that “OPM is required to establish programs for the systematic development of candidates for the SES and/or assist agencies in the establishment of such programs which meet OPM prescribed criteria.”

¹ OPM, “Hiring and Talent Development for the Senior Executive Service” (May 29, 2025), available at https://www.chcoc.gov/content/hiring-and-talent-development-senior-executive-service.

Through the introduction of more stringent SESCDP certification requirements, OPM aims to enhance training and development for aspiring SES and accelerate the placement of well-prepared leaders to ensure leadership continuity. OPM has reviewed evaluation feedback from agencies and graduates of SESCDPs over the years, which suggest some adjustments can be made to enhance the experience for SESCDP participants and aim for better outcomes. To accomplish this transformation, OPM proposes to adjust the formal training content, adopt a more streamlined program cohort duration, and utilize developmental assignments of a longer minimum duration. In turn, agencies will have a more appropriate timeframe to conduct an SESCDP and allow for aspiring SES to learn in an environment that promotes governmentwide cohesion and prepares them to deliver results as accountable senior executives.

Proposed Changes in This Rulemaking

OPM has reviewed the supervisory, management and executive development regulations governing the SESCDP and is issuing this proposed rule in response to the President's directives and pursuant to its regulatory authority in 5 U.S.C. 3396 (a) and (b). The following are the principal results sought by the proposed changes to 5 CFR part 412:

○ Agencies have effective and cost-efficient SESCDPs that will support agency succession planning and candidate development;

○ Agencies identify and select individuals that have demonstrated executive ability and further develop them professionally to step into the SES with the experiences to handle the challenges presented at the highest caliber of public service;

○ Agencies maintain a minimum placement rate of program graduates receiving OPM QRB certification as determined by OPM policy to ensure a return on investment; and

○ Agencies are better equipped to collect SESCDP evaluation data to identify and implement program enhancements or alternative approaches to improve program administration.

To assist agencies in accomplishing these results, we are proposing changes to 5 CFR part 412, subpart C “Senior Executive Service Candidate Development Programs.” In addition to modifying §§ 412.301 and 412.302, OPM also proposes to add a new § 412.303 to address SESCDP oversight and evaluation. The following are the major proposed changes in part 412, subpart C:

§ 412.301

Section 412.301 provides the requirements for an agency to obtain approval from OPM to conduct an SESCDP. OPM proposes to add a requirement for each Department or Agency HQ-level seeking approval to submit a blanket, enterprise-wide policy for itself and all subcomponents. OPM also proposes to prescribe program policy parameters and require agencies to use an OPM-provided program policy template when applying for program and policy approval. The template submission process streamlines program creation by standardizing most elements and aligning all policies across agencies for uniformity. The proposal would amend § 412.301(b) to require a participating agency to include in its policy a description of SESCDP program methodologies, modifications, and improvements by using the OPM-developed SESCDP policy template, as well as program evaluation templates. Further, the proposal would also require agencies to obtain OPM re-approval for an SESCDP on a triennial basis to ensure alignment and strategic linkage with agency succession plans.

OPM has directed all agencies that currently operate SESCDPs to ensure alignment with the new Administration policies. OPM also directed that, no later than October 31, 2025, those agencies must submit updated policies for OPM review and approval.² Agencies must submit all updated policies using the OPM-developed template but may need to submit policy modifications if there are any changes in the final rule. OPM policy approvals will occur within 30 days after the final rule date, and agencies cannot begin new program cohorts until their new policy has been approved by OPM.

² Id.

§ 412.302

Section 412.302 provides the criteria for an SESCDP. Currently, SESCDPs must be a minimum of 12 months and can run up to 24 months. This length of time involves considerable expense and resources to ostensibly turn “almost ready” talent into “ready now” talent. OPM proposes to limit program cohort duration from a minimum of 9 months to a maximum of 12 months. Additionally, to allow flexibility based on extenuating circumstances, agencies may be granted by OPM an extension of program cohort length up to 15 months for the affected participant(s). This reduced duration serves as part of a re-envisioned SESCDP to more effectively identify and prepare “almost ready” talent and decrease the time needed for high-potential executive talent to reach optimal performance.

Current SESCDPs must provide at least 80 hours of formal interagency or multi-sector training experience. OPM proposes to increase this to 100 hours of formal training which must include topics identified by the agencies that best serve the development of their participants and must also include topic areas specific to: strategic planning, financial management, human resource management, government efficiency, management and supervision, and accountability. Targeted training in the above-specified areas will serve to improve leadership skills such as decision-making, communicating, problem-solving, and adaptability. The number of specific hours allocated to each of these topics is at the discretion of the agencies.

OPM proposes that participants in an agency SESCDP must receive at least two validated executive assessments (i.e., structured evaluation tools that have been scientifically tested to ensure they reliably measure specific competencies, behaviors, or traits relevant to executive leadership). The first assessment must be conducted at selection, and a second assessment must be conducted during the program cohort. An agency would be required to consider the results of the first assessment in its evaluation of which candidates are best suited to participate in an SESCDP. Similarly, agencies would be required to use the in-program assessment results to identify and adjust, as needed, areas of continuing development for SESCDP participants while they progress through their program cohort.

Finally, OPM proposes to require a minimum 10 hours each of coaching and mentoring and to require at least one developmental assignment of 120 continuous days outside the scope of the candidate's position of record and require the assignments to include roles at the executive level where the candidate is held responsible for achieving organizational or agency results during the developmental assignment. The purpose of the new developmental assignment provision is to enhance and broaden the candidate's experience, increase his or her knowledge, and maximize his or her understanding of the overall functioning of the agency, so the candidate is prepared for a range of agency positions at the SES level.

§ 412.303

OPM proposes to add a Program Evaluation requirement. Agencies would be required to implement programmatic changes based on that feedback. Each SESCDP would be required to obtain re-approval from OPM based on demonstrated program effectiveness.

Expected Impact of This Rulemaking

A. Statement of Need

OPM is issuing this proposed rule pursuant to its authority to issue regulations governing the development for and within the SES in 5 U.S.C. 3396. Succession planning, through the identification of high performers, coupled with enhanced leadership preparation and development, plays a critical part in agency mission success. Building a pipeline of high performing GS-14s, 15s, and equivalents equipped with the skills, knowledge, technical expertise, and strategic mindset necessary to excel in senior leadership roles is crucial. Therefore, in order to build and maintain this “ready now” pipeline, a reformed SESCDP, focused and targeted, is needed and will contribute to increased succession readiness, particularly through the strategic placement of program graduates who receive OPM SES QRB certification. These prescribed changes will also drive a shift in the culture of the SES and implement more impactful SES training and development requirements.

Inconsistencies among SESCDPs have yielded mixed results across participating agencies. That variability has resulted in different training and development experiences for SESCDP participants and leads to some programs that are more effective than others in preparing their leaders. This causes fluctuating levels of candidate placement rates and creates challenges in supporting government-wide succession planning efforts. Additionally, OPM and agencies lack visibility on standardized government-wide program data. The absence of consistent metrics prevents OPM and agencies from comparing results across programs and assessing the impact and value to SESCDP participants and the government.

B. Impact

SESCDPs are designed to strengthen executive core qualifications (ECQ) competencies for selected high-performing aspiring executives through a demanding learning and developmental experience. An SESCDP provides candidates with governmentwide leadership challenges, opportunities to interact with senior employees outside their assigned department and/or agency, interagency training experiences, executive-level development assignments, mentoring, and coaching.

This experience boosts participants' executive competencies and expands their understanding of governmentwide programs and issues beyond their individual agency of assignment and their profession, broadening participants' understanding of missions, programs, core values, and management challenges. Utilizing an SESCDP can support an agency's talent management and succession planning efforts through building an equipped pipeline of “ready now” aspiring leaders. This allows senior agency leaders to make strategic and timely placements to improve performance, accomplish agency mission, and effectively provide services to the American public.

The proposed program changes will add a more unified structure to the SESCDPs and ensure a more aligned cadre of graduates through this succession management track. Templated program areas, from policy to program evaluations, will allow for a more integrated comparison of programs over time, allowing decision makers to further tailor the programs to meet the needs of agencies governmentwide and fully aligned with incumbent SES demonstrated leadership competencies. Ultimately, by increasing program standards and training requirements, an SESCDP will better equip program participants to excel in senior leadership roles and effectively implement the President's agenda. This will not only increase the President's confidence in the ability of the Executive Branch to serve the Nation but also build trust with the American people.

C. Costs

This proposed rule would affect the operations of the 13 Federal agencies that currently have an OPM-approved SESCDP policy—ranging from cabinet-level departments to small independent agencies. There are also two other Federal agencies that previously informed OPM that they would be submitting a SESCDP policy for approval. We estimate that this rule would require individuals employed by these agencies to spend time creating an updated SESCDP policy—whether updating their current SESCDP policy or creating a policy to start a new SESCDP—to reflect the updated program structure and administration. There would also be potential cost savings for the two sub-level agencies that have currently approved SESCDP policies as, moving forward, they would fall under their top-level agency policy.

Typically, an agency's Executive Resources or Training and Development staff handles tasks associated with overseeing the management of SESCDP policies and programs. Therefore, for this cost analysis, OPM assumes the average salary rate of Federal employees performing this work will be the rate in 2025 for GS-14, step 5, in the Washington, DC, locality pay table ($161,486 annual locality rate and $77.38 hourly locality rate). Typically, there are two types of roles who oversee the administration of an SESCDP—program managers and program coordinators—and their combined time would average the equivalent of one FTE at this grade level. We assume the total dollar value of labor, which includes wages, benefits, and overhead, is equal to 200 percent of the wage rate, resulting in an assumed labor cost of $154.76 per hour.

To comply with the regulatory changes in the proposed rule, affected agencies would need to review the rule and update their policies and procedures. We estimate that, in the first year following publication of a final rule, this would require an average of 100 hours of work by employees with an average hourly cost of $154.76 per hour. Accounting for the 11 agencies with current approved policies, and the two agencies planning to submit for initial policy approval, this would result in estimated costs of about $15,000 per agency, or about $200,000 total. Further, because federal agencies are not required to obtain an OPM-approved SESCDP policy, each additional agency that decides to apply for a policy approval would equal an estimated cost of $15,000 per agency. For the second and third years of having an approved policy, agencies would see a cost savings of $15,000 each year, as the 100 hours of work to review the rule and update policies would not be required. However, following the third year, this cost would be incurred again when the agency must submit a policy re-approval.

When calculating other operational program costs per SESCDP participant, OPM estimates the average number of participants per program is about 25 participants per cohort. In addition, when calculating program costs for the assessment of applicants, OPM estimates that the assessments would be administered to those applicants on the Best Qualified list, which we estimate to be 40 people per cohort.

These additional program costs would include the increase in formal training hours, the addition of a second validated executive assessment, and the addition of 10 coaching hours to develop a candidate at the executive level. The current average cost of a formal training hour per SESCDP participant is $150. By adding 20 more formal training hours, the cost of this program element increases the cost per participant by $3,000. The current average cost of administering one validated executive assessment is $350 per assessment. Typically, these assessments require the results to be interpreted to the participant by a professional, adding additional cost. Adding a second assessment for use during the program is an additional $350. Finally, the cost of external coaching services can range anywhere from $200 to $3,000 per hour. However, when identifying sources that provide the level of professional expertise and coaching services needed to support SESCDP participants, it was estimated to cost approximately $1,000 per hour.

However, to offset costs pertaining to coaching requirements, agencies can utilize federal coaches (i.e., graduates of the Federal Internal Coaching Training Program) certified in providing coaching services and administering feedback on assessments used by the agency. Of the 11 agencies currently holding policies, and the two agencies that have expressed interest in obtaining an approved policy, eight have formal programs that offer coaching to employees. If these agencies utilize their certified internal coaches to provide this service, the cost of adding the coaching requirement into the SESCDP could be reduced by approximately $3 million each year across government. Additionally, agencies that do not have coaching programs can partner with OPM to identify and utilize federal coaches through the Federal Coaching Network (FCN). The FCN is a community of individuals across the federal government who are invested in the practice of coaching and support its role in leadership development. Furthermore, by leveraging a multi-agency OPM-approved SESCDP policy, these agencies can partner with those that do have a formal coaching program to combine and share resources. For agencies who are able to leverage internal coaching services, it is estimated that the combined costs for new training and development requirements would be approximately $152,000 per agency. For agencies who must or choose to leverage external coaching services, that cost would increase to approximately $402,000 per agency.

It is also important to note that the recruitment and hiring costs to onboard an SES can vary from agency to agency. OPM anticipates that the SESCDPs under this revised framework will more reliably produce high-caliber SES candidates that are ready to step into SES positions. This proposed rule would require a minimum level of SESCDP graduate placement rate of participants set by OPM as evaluation criteria, reflecting the improved effectiveness of the OPM-approved SESCDPs. OPM expects that this would allow agencies to realize cost savings, as they could offset SES recruitment and hiring costs by increasing the amount of SESCDP graduates placed in vacant executive positions.

OPM anticipates that total costs for agencies who are able to leverage the internal savings mentioned above would be an estimated $167,000 per agency, or $2.2M across all participating agencies. If all participating agencies must, or choose, to leverage external developmental services or resources, that cost would increase to approximately $417,000 per agency, or $5.4M total.

D. Benefits

The standardization of program policies will save time for agencies by reducing policy drafting and approval timelines. Decreasing the program cohort duration allows for a more expedited timeline of identifying near ready talent and preparing them fully to fill SES vacancies. Common practice in program evaluation allows for measuring the individual SESCDP participant input on program outcomes, and the standardized feedback will allow for easier comparison from program to program. Additionally, adding an organizational standard evaluation feedback tool provides an opportunity for the impact to be measured more easily for return on investment to the organization, as referenced by Njah et al., which can aid in continued decisions about the impacts that the program outcomes have on the organization.³

³ Njah J., Hansoti B., Adeyami A., Bruce K., O'Malley G., Gugerty M.K., Chi B.H., Lubimbi N., Steen E., Stampfly S., Berman E., Kimball A.M. Measuring for Success: Evaluating Leadership Training Programs for Sustainable Impact. Ann Glob Health. 2021 Jul 12;87(1):63. doi: 10.5334/aogh.3221. PMID: 34307066; PMCID: PMC8284530.

Utilization of validated assessments during the recruitment process would support agencies in identifying those candidates who are on the cusp of becoming senior executives and that are best suited to participate in an SESCDP. Further, use of an assessment—such as a 360-degree assessment—during the course of the SESCDP will also provide valuable feedback to candidates, especially when used as a part of the coaching relationship. Because this kind of assessment provides feedback from a variety of perceptions, coaches can utilize feedback, “. . . to bring a measure of objectivity and structure to the coaching engagement.” ⁴ The frequency of coaching sessions can be prescribed using the common practice of meeting once per month as is typical with a leadership or executive coach. Therefore, a nine-month SESCDP would account for 9 hours of coaching and also allow for 1 hour focusing on providing assessment feedback. This structure is supported by research from DiGirolamo, who discusses the benefits of using coaching as a tool in leadership succession management and how “[i]ndividualized attention in coaching will bring a laser-sharp focus on unique strengths and growth opportunities.”

⁴ DiGirolamo, Joel. Coaching for Professional Development, SHRM-SIOP Science of HR White Paper Series. Society for Human Resource Management & Society for Industrial and Organizational Psychology. 2015.

E. Regulatory Alternatives

An alternative to this rulemaking is to not modify current regulatory program requirements and instead issue further OPM guidance encouraging agencies to be increasingly rigorous in their management of their SESCDPs. OPM could recommend that agencies incorporate these changes as promising or best practices, with the goal to increase program oversight, participation, and performance. However, previous attempts to achieve this result through recommendations and informal guidance to agencies have not been successful and, instead, have allowed agencies to continue to modify program methodologies, resulting in varying program policies and results. According to feedback from agencies with approved policies, program managers and coordinators have consistently suggested that OPM standardize improved program requirements so that their SESCDPs would be more aligned. Therefore, solidifying the requirements through OPM-developed templates would reduce the burden on agencies and would help produce consistent data points for comparison to ensure quality implementation of SESCDPs government wide. Additionally, this will help provide universal datapoints to agency leadership to illustrate the effectiveness of an agency's SESCDP, how it compares to other agency programs, and ensure program accountability to produce measurable high-quality, timely, and cost-effective results.

Request for Comments

OPM requests comments on the implementation and potential impacts of this proposed rule. Such information will be useful for better understanding the effect of this amendment on SESCDP. The type of information in which OPM is interested includes, but is not limited to, the following:

• What research should OPM consider regarding the time requirements allotted for training, mentoring, and coaching in addition to what has been mentioned?

• Should OPM prescribe a specific number of hours for each of the proposed training topics listed in § 412.302? Should the number of hours be equally allocated to each topic, or should agencies have the flexibility to ensure each topic is appropriately covered?

• What is the benefit of expanding executive assessments on the effectiveness of development programs?

• What promising practices have similar executive development programs in the private sector adopted? How have they impacted talent management and succession planning efforts?

• What additional executive development research should be considered regarding proposed changes to these elements of the regulation?

In the final rule, OPM may adopt changes from the proposed requirements based on the information it receives in response to these questions.

Regulatory Compliance

A. Regulatory Review

OPM has examined the impact of this rule as required by E.O.s 12866 and 13563, which direct agencies to assess all costs and benefits of available regulatory alternatives and, if regulation is necessary, to select regulatory approaches that maximize net benefits (including potential economic, environmental, public, health, and safety effects, distributive impacts, and equity). A regulatory impact analysis must be prepared for rules that have an annual effect on the economy of $100 million or more or adversely affect in a material way the economy, a sector of the economy, productivity, competition, jobs, the environment, public health or safety, or State, local, or tribal governments or communities. This rulemaking does not reach that threshold but has otherwise been designated a “significant regulatory action” under section 3(f) of Executive Order 12866. This rule is not expected to be an E.O. 14192 regulatory action because it imposes no more than de minimis costs.

B. Regulatory Flexibility Act

The Director of OPM certifies that this rulemaking will not have a significant economic impact on a substantial number of small entities because it will apply only to Federal agencies and employees.

C. Federalism

This rulemaking will not have substantial direct effects on the States, on the relationship between the National Government and the States, or on distribution of power and responsibilities among the various levels of government. Therefore, in accordance with Executive Order 13132, it is determined that this proposed rule does not have sufficient federalism implications to warrant preparation of a Federalism Assessment.

D. Civil Justice Reform

This rulemaking meets the applicable standards set forth in section 3(a) and (b)(2) of Executive Order 12988.

E. Unfunded Mandates Reform Act of 1995

Section 202 of the Unfunded Mandates Reform Act of 1995 (UMRA) requires that agencies assess anticipated costs and benefits before issuing any rule that would impose spending costs on State, local, or tribal governments in the aggregate, or on the private sector, in any 1 year of $100 million in 1995 dollars, updated annually for inflation. That threshold is currently approximately $206 million. This rulemaking will not result in the expenditure by State, local, or tribal governments, in the aggregate, or by the private sector, in excess of the threshold. Thus, no written assessment of unfunded mandates is required.

F. Paperwork Reduction Act

This regulatory action will not impose any reporting or recordkeeping requirements under the Paperwork Reduction Act.

List of Subjects in 5 CFR Part 412

Education, Government employees.

Accordingly, for the reasons stated in the preamble, OPM proposes to amend 5 CFR part 412 as follows:

PART 412—SUPERVISORY, MANAGEMENT, AND EXECUTIVE DEVELOPMENT

1. The authority citation for part 412 is revised to read as follows:

Authority: 5 U.S.C. 1103(c)(2)(C), 3396, 3397, and ch. 41.

Subpart C—Senior Executive Service Candidate Development Programs

2. Amend § 412.301 by revising paragraphs (b), (c), and (d) to read as follows:

§ 412.301 Obtaining approval to conduct a Senior Executive Service candidate development program (SESCDP).

* * * * *

(b) An agency covered by 5 U.S.C., chapter 31, subchapter II, may apply to OPM to conduct an SESCDP alone or on behalf of a group of agencies. (In this subpart, the term “agency” refers to either a single agency or a group of agencies acting in partnership under this subpart.) Any agency developing an SESCDP must submit a single overarching policy document to OPM for formal approval before implementing the SESCDP. Agencies must use the OPM-developed SESCDP policy template to describe program methodologies.

(c) An agency must seek OPM re-approval (see § 412.303) on a triennial basis and must also consult OPM before implementing a change substantially altering how the SESCDP complies with the requirements of this regulation. OPM re-approval must be obtained before an agency initiates a new SESCDP.

(d) An approved SESCDP policy will serve as an umbrella program policy and establish enterprise-wide requirements for the entire agency. An agency with an OPM-approved SESCDP policy may authorize a major agency component or subcomponent employing senior executives to conduct an SESCDP. The major agency component or subcomponent must utilize and adhere to the approved agency policy when administering an individual SESCDP cohort.

* * * * *

3. Amend § 412.302 by revising paragraphs (a), (b), and (c) to read as follows:

§ 412.302 Criteria for a Senior Executive Service candidate development program (SESCDP).

(a) Executive Resources Board requirements. An agency's Executive Resources Board (ERB) must oversee the SESCDP. The ERB ensures the development program both complies with the requirements of paragraph (c) of this section and includes substantive developmental experiences that should equip a successful candidate to accomplish Federal Government missions as a senior executive. The agency ERB must oversee and be accountable for SESCDP recruitment, merit staffing, and assessment. The agency ERB must ensure the program follows SES merit staffing provisions in 5 CFR 317.501, subject to the condition explained in § 412.302(d)(1). The ERB also must oversee development, evaluation, progress in the program, and graduation of candidates, and submit for QRB review within 80 calendar-days of graduation those candidates determined by the ERB to possess the executive core qualifications. The ERB must also oversee the writing and implementation of a removal policy for program candidates who do not make adequate progress.

(b) Recruitment.

(1) Consistent with the merit system principles in 5 U.S.C. 2301(b)(1) and (2), agencies must ensure that recruitment for the program is from all groups of qualified individuals within the civil service, or all groups of qualified individuals whether or not within the civil service.

(2) The number of expected SES vacancies must be considered as one factor in determining the number of selected candidates, and agencies, to the maximum extent possible, should ensure program participation includes candidates from outside of the agency.

(3) Agencies must require each applicant to complete one validated executive assessment during the program application process and each SESCDP participant to complete at least one additional validated executive assessment during the course of the SESCDP. Agencies must consider the results of the assessment conducted during the application process in identifying those candidates who are best suited to participate in an SESCDP. Agencies must use the in-program assessment results to identify and adjust, as needed, areas of continuing development for each SESCDP participant while they progress through the program cohort.

(c) Senior Executive Service candidate development program requirements. An SESCDP program cohort must last a minimum of nine months but must not exceed twelve months in duration. To graduate, a candidate must accomplish the requirements of the program established by his or her agency. An SESCDP must include each of the following elements for each SESCDP participant:

(1) A documented development plan based upon a competency-based needs determination and approved by the agency ERB. The candidate must utilize the OPM-standardized Executive Development Plan (EDP) template, which will:

(i) Address the executive core qualifications (ECQs);

(ii) Address Federal Government leadership challenges crucial to the senior executive;

(iii) Provide increased knowledge and understanding of the overall functioning of the agency, so the participant is prepared for a range of positions and responsibilities;

(iv) Include interaction with senior employees outside the candidate's department or agency to foster a broader perspective; and

(v) Address Governmentwide or multi-agency applicability in the nature and scope of the training;

(2) A formal interagency and/or multi-sector training experience lasting at least 100 hours that, at a minimum, addresses the topics of strategic planning, financial management, human capital management, human resource management, government efficiency, management and supervision, and accountability. The number of specific hours allocated to each training topic is at the discretion of the agency. The agency may add additional agency-specific training topics as appropriate and any additional topics prescribed through OPM guidance and policy. The training experience must include interaction with senior employees outside the candidate's department or agency.

(3) A developmental assignment of at least 120 continuous days of full-time service to a position other than, and substantially different from, the candidate's position of record. The assignment must include executive-level responsibility and differ from the candidate's current and past assignments in ways that broaden the candidate's experience, as well as challenge the candidate with respect to leadership competencies and the ECQs. Assignments need not be restricted to the agency, the Executive Branch, or the Federal Government, so long as they can be accomplished in compliance with applicable law and Federal and agency-specific ethics regulations. The candidate is held accountable for organizational or agency results achieved during the assignment. If the assignment is in a non-Federal organization, the ERB must provide for adequate documentation of the individual's actions and accomplishments and must determine the assignment will contribute to development of the candidate's executive qualifications.

(4) A mentor who is a member of the SES or is otherwise determined by the ERB to have the knowledge and capacity to advise the candidate, consistent with goals of the SESCDP. The mentor and the candidate are jointly responsible for a productive mentoring relationship and are required to meet for a minimum of 10 hours during the course of the SESCDP. However, the agency should establish methods to assess these relationships and, if necessary, facilitate them or make appropriate changes in the interest of the candidate.

(5) A leadership or executive-level coach who is certified with an accredited coaching organization and is determined by the ERB to have the knowledge and capacity to advise the candidate, consistent with the goals of the SESCDP. The coach and the candidate are jointly responsible for a productive coaching relationship and are required to meet for a minimum of 10 hours during the course of the SESCDP. However, the agency must establish methods to assess these relationships and, if necessary, facilitate them or make appropriate changes in the interest of the candidate.

* * * * *

5. Add § 412.303 to read as follows:

§ 412.303 Senior Executive Service candidate development program (SESCDP) oversight and evaluation.

(a) Agencies must complete and maintain program evaluations pursuant to training evaluation requirements in 5 CFR 410.202 and must use OPM-developed evaluation templates for completion, respectively, by individual SESCDP participants and agency program managers:

(1) Upon completion of each individual SESCDP cohort;

(2) Annually for the overarching SESCDP; and

(3) To collect evaluation data for the purpose of identifying and implementing program enhancements or alternative approaches to program administration.

(b) To seek OPM re-approval of an SESCDP policy, an agency must submit its current program policy and completed overarching program evaluation template. Evaluations must include initial SES placement rates for graduates who receive a QRB certification and demonstrate that the agency maintains a minimum placement rate as required by OPM policy and guidance. Individual participant program cohort evaluation templates are not required for re-approval; however, OPM reserves the right to request templates for each individual cohort during the current approval period.

{December 16, 2025}

The Director of OPM, Scott Kupor, reviewed and approved this document and has authorized the undersigned to electronically sign and submit this document to the Office of the Federal Register for publication.

Office of Personnel Management.
Jerson Matias,
Federal Register Liaison.

[FR Doc. 2025-23289 Filed 12-17-25; 8:45 am]

BILLING CODE 6325-39-P